ENVIRONMENTAL PROTECTION AGENCY

[FRL-9907-71-Region 4; CERCLA-04-2014-3755]

Ecusta Mill Superfund Site, Pisgah Forest, Transylvania County, North Carolina; Notice of Settlement

AGENCY: Environmental Protection Agency.

ACTION: Notice of settlement.

SUMMARY: Under 122(h) of the Comprehensive Environmental Response, Compensation and Liability Act (CERCLA), the United States Environmental Protection Agency has entered into a settlement with the P.H. Glatfelter Company concerning the Ecusta Mill Superfund Site located in Pisgah Forest, Transylvania County, North Carolina. The settlement addresses remaining costs from a fund- lead Removal Action taken by the EPA at the Site.

DATES: The Agency will consider public comments on the settlement until April 10, 2014. The Agency will consider all comments received and may modify or withdraw its consent to the settlement if comments received disclose facts or considerations which indicate that the amended settlement is inappropriate, improper, or inadequate.

ADDRESSES: Copies of the settlement are available from the Agency by contacting Ms. Paula V. Painter, Environmental Protection Specialist using the contact information provided in this notice. Comments may also be submitted by referencing the Site's name through one of the following methods:

• Internet: www.epa.gov/region4/superfund/programs/enforcement/enforcement.html.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887

Dated: January 27, 2014.
Anita L. Davis,
Chief, Superfund Enforcement & Information Management Branch, Superfund Division.

[FR Doc. 2014-05292 Filed 3-10-14; 8:45 am]

BILLING CODE 6560-50-P